DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 8, 2004.

Interested persons are invited to submit written comments regarding the subject matter of the investigations to the Director, Division of Trade Adjustment Assistance, at the address shown below, not later than January 8, 2004.

The petitions filed in this case are available for inspection at the Office of the Director, Division of Trade Adjustment Assistance, Employment and Training Administration, U.S. Department of Labor, Room C-5311, 200 Constitution Avenue, NW., Washington, DC 20210.

Signed at Washington, DC this 12th day of December 2003.
Timothy Sullivan,
Director, Division of Trade Adjustment Assistance.

Appendix
TA-W | Subject firm (petitioners) | Location | Date of institution | Date of petition
Petitions Instituted Between 11/17/2003 and 11/21/2003
53,541 | Gentry Mills, Inc. (Comp.) | Wadesboro, NC | 11/17/2003 | 11/10/2003
53,542 | Bunnies By The Bay (Comp.) | Anacortes, WA | 11/17/2003 | 11/01/2003
53,543 | Charmilles Technologies Manufacturing (stat) | Owosso, MI | 11/17/2003 | 11/05/2003
53,544 | Levi Strauss and Co. (Comp.) | San Antonio, TX | 11/17/2003 | 11/14/2003
53,545 | MJ Soffe Co. (Comp.) | Fayetteville, NC | 11/17/2003 | 11/14/2003
53,546 | Randolph Products (Wkrs.) | Carlstadt, NJ | 11/17/2003 | 11/14/2003
53,547 | Hartz and Co., Inc. (Comp.) | Broadway, VA | 11/17/2003 | 11/11/2003
53,548 | Comet Tool (State) | Pitman, NJ | 11/17/2003 | 11/13/2003
53,549 | General Electric Financial Assurance (Comp.) | Greenfield, MA | 11/17/2003 | 11/10/2003
53,550 | Woholert Corp. (Comp.) | Lansing, MI | 11/17/2003 | 11/07/2003
53,551 | Allegheny Ludlum Corp. (Comp.) | Brackenridge, Pa | 11/17/2003 | 11/03/2003
53,552 | Carson Industries, Inc. (Comp.) | Freeport, PA | 11/17/2003 | 11/14/2003
53,553 | Level 1, Inc. (Comp.) | Rockland, MA | 11/17/2003 | 11/04/2003
53,554 | Waltrich Plastic Corp. of Mass (Comp.) | Clinton, MA | 11/17/2003 | 11/03/2003
53,555 | Vector Tobacco Inc. (Comp.) | Timberlake, NC | 11/17/2003 | 11/13/2003
53,556 | Dan River Inc. (Wkrs.) | Sevierville, TN | 11/17/2003 | 11/14/2003
53,557 | Paxar Americas (Comp.) | Snow Hill, NC | 11/17/2003 | 11/17/2003
53,558 | Red Wing Shoe Co., Inc. (Comp.) | Potosi, MO | 11/18/2003 | 11/05/2003
53,559 | Marathon Oil Company (Comp.) | Findlay, OH | 11/18/2003 | 10/31/2003
53,560 | International Paper (Wkrs) | Memphis, TN | 11/18/2003 | 11/17/2003
53,561 | Lucerne Technologies LLC (Comp.) | Bolivar, TN | 11/18/2003 | 11/03/2003
53,562 | Weyerhauser (IAW) | Longview, WA | 11/18/2003 | 11/13/2003
53,563 | Pillowtex Corp., (Wkrs) | Commerce, GA | 11/18/2003 | 11/14/2003
53,564 | Allegheny Ludlum Corp. (Comp.) | Leechburg, PA | 11/18/2003 | 11/03/2003
53,565 | Nylstar, Inc. (Comp.) | Ridgeway, VA | 11/18/2003 | 11/10/2003
53,566 | Fishman and Tobin (UNITE) | Conshohocken, PA | 11/18/2003 | 11/07/2003
53,567 | Ampacet Texas LP (Comp.) | Latexo, TX | 11/18/2003 | 11/12/2003
53,568 | EJE Research (Comp.) | Buffalo, NY | 11/18/2003 | 01/03/2003
53,569 | Irving Tanning Co. (Comp.) | Hartland, ME | 11/18/2003 | 11/06/2003
53,570 | Thermo Forma (Wkrs) | Marietta, OH | 11/18/2003 | 10/26/2003
53,571 | Maynard Steel Casting Co. (Comp.) | Milwaukee, WI | 11/18/2003 | 11/03/2003
53,572 | Johnson and Johnson (NJ) | N. Brunswick, NJ | 11/18/2003 | 11/17/2003
53,573 | Textron PFPD (Wkrs) | Rockfrord, IL | 11/18/2003 | 11/05/2003
53,574 | Spring Industries (Comp.) | Fort Lawn, SC | 11/18/2003 | 11/13/2003
53,575 | PolyOne Corp. (AR) | Wynne, AR | 11/18/2003 | 11/17/2003
53,576 | Kraft Foods (Comp) | Northlake, IL | 11/18/2003 | 11/17/2003
53,577 | TDK Texas Corp. (Wkrs) | El Paso, TX | 11/19/2003 | 11/17/2003
53,578 | MT Picture Display Corp. of America (Comp) | Horseheads, NY | 11/19/2003 | 11/07/2003
53,579 | Dillon Floral Corp. (Comp) | Bloomsburg, PA | 11/19/2003 | 11/11/2003
53,580 | Piedmont Bottling and Vending, Inc. (Comp) | Hickory, NC | 11/19/2003 | 11/12/2003
53,581 | NW Services, Inc. (Comp) | Hickory, NC | 11/19/2003 | 11/12/2003
53,582 | Avondale Mills (Wkrs) | Burnsville, NC | 11/19/2003 | 10/31/2003
53,583 | Procter and Gamble Paper Products Co. (PACE) | Green Bay, WI | 11/19/2003 | 11/11/2003
53,584 | Advantek (MN) | Minnetonka, MN | 11/19/2003 | 11/03/2003
53,585 | Sealed Air Corp. (PACE) | Salem, IL | 11/19/2003 | 10/30/2003
53,586 | MacBrad Wholesale Flowers, Inc. (Wkrs) | Pasadena, TX | 11/19/2003 | 11/06/2003
53,587 | Sensient Imaging Technologies, Inc. (Comp) | Piqua, OH | 11/19/2003 | 10/28/2003
53,588 | Severna an Amphina Co. (NJ) | Parsippany, NJ | 11/19/2003 | 11/18/2003
53,589 | Charmilles Technologies Mfg. (Comp) | Owosso, MI | 11/19/2003 | 11/05/2003
53,590 | Noble Construction Equipment (Comp) | Lubbock, TX | 11/19/2003 | 11/17/2003
53,591 | Steward, Inc. (Wkrs) | Chattanooga, TN | 11/20/2003 | 10/29/2003
53,592 | DyStar LP (Comp) | Charlotte, NC | 11/20/2003 | 11/18/2003
53,593 | Phoenix Metal Technologies (Comp) | Lexington, KY | 11/20/2003 | 11/12/2003
53,594 | Kaneka Delaware Corp. (Comp) | Delaware City, DE | 11/20/2003 | 11/12/2003
53,595 | Perm Cast LLC (Comp) | Cynthiana, KY | 11/20/2003 | 11/11/2003
53,596 | Jeld-Wen (Wkrs) | Susanville, CA | 11/20/2003 | 11/10/2003
53,597 | Fashion Technologies (Wkrs) | Gaffney, SC | 11/20/2003 | 11/01/2003
53,598 | Hercules, Inc. (Comp) | Hattiesburg, MS | 11/20/2003 | 11/11/2003
53,599 | American Allsafe Co. (Comp) | Tonawanda, NY | 11/20/2003 | 11/07/2003
53,600 | Leica Microsystems, Inc. (USWA) | Depew, NY | 11/20/2003 | 11/12/2003
53,601 | Paxar Americas (Comp) | Cowpens, SC | 11/21/2003 | 11/20/2003
53,602 | GST Autoleather, Inc. (Comp) | Reading, PA | 11/21/2003 | 11/20/2003
53,603 | Carrier Corporation (SMWIA) | Syracuse, NY | 11/21/2003 | 11/14/2003
53,604 | Springs Industries, Inc. (Comp) | Rock Hill, SC | 11/21/2003 | 11/14/2003
53,605 | TNS Intersearch (Wkrs) | Youngstown, OH | 11/21/2003 | 11/19/2003
53,606 | Extreme Tool and Engineering (Comp) | Wakefield, MI | 11/21/2003 | 11/13/2003
53,607 | Med Data, Inc. (MT) | Corvalis, MT | 11/21/2003 | 11/18/2003
53,608 | Avery Dennison (Comp) | Meridian, MS | 11/21/2003 | 11/06/2003
53,609 | Conn-Selmer, Inc. (UAW) | E. Lake, OH | 11/21/2003 | 11/17/2003
53,610 | Besly Products Corporation (UAW) | S. Beloit, IL | 11/21/2003 | 11/17/2003
53,611 | Intercontinental Polymers, Inc. (Comp) | Lowland, TN | 11/21/2003 | 11/13/2003
53,612 | Glatfelter (Comp) | Neenah, WI | 11/21/2003 | 11/19/2003
Petitions Instituted Between 11/24/2003 and 11/28/2003
53,613 | Houston/NANA (AK) | Fairbanks, AK | 11/24/2003 | 11/17/2003
53,614 | Advance Transformer Co. (Comp) | Chicago, IL | 11/24/2003 | 11/10/2003
53,615 | Teleflex Medical (Comp) | Fall River, MA | 11/24/2003 | 11/14/2003
53,616 | Watlow Controls (MN) | Winona, MN | 11/24/2003 | 11/18/2003
53,617 | Cummins Engine Co. (Wkrs) | Neillsville, WI | 11/24/2003 | 10/30/2003
53,618 | DAY International, Inc. (Comp) | Greenville, SC | 11/24/2003 | 11/17/2003
53,619 | Timken US Corp (Wkrs) | Rockford, IL | 11/24/2003 | 11/13/2003
53,620 | Creekwood, Inc. (Comp) | Columbia, TN | 11/24/2003 | 11/14/2003
53,621 | Rainbow Ranch (Comp) | Chehalis, WA | 11/25/2003 | 11/20/2003
53,622 | JVC Magnetics America Co. (Comp) | Tuscaloosa, AL | 11/25/2003 | 11/20/2003
53,623 | Fashion Sportswear Corp. (Comp) | Fall River, MA | 11/25/2003 | 11/19/2003
53,624 | GE Lighting, Inc. (Comp) | Logan, OH | 11/25/2003 | 11/12/2003
53,625 | Valentine Tool and Stamping (Comp) | Norton, MA | 11/25/2003 | 11/21/2003
53,626 | P and R Trucking Services, Inc. (Comp) | St. Joseph, MO | 11/25/2003 | 11/19/2003
53,627 | Washout Co. (The) (Comp) | St. Joseph, MO | 11/25/2003 | 11/19/2003
53,628 | G and R Transport (Comp) | St. Joseph, MO | 11/25/2003 | 11/19/2003
53,629 | Twitchell Corp. (Comp) | Dothan, AL | 11/25/2003 | 11/19/2003
53,630 | Pechiney Plastic Packaging (Wkrs) | Des Moines, IA | 11/25/2003 | 11/19/2003
53,631 | Main Street Textiles LP (Comp) | Fall River, MA | 11/25/2003 | 11/18/2003
53,632 | Coventry Narrow Fabrics, Inc. (UNITE) | Coventry, RI | 11/25/2003 | 11/18/2003
53,633 | IBM Technology Group (Wkrs) | Essex Junction, VT | 11/25/2003 | 11/24/2003
53,634 | Virginia KMP Corp. (Comp) | Dallas, TX | 11/25/2003 | 11/18/2003
53,635 | Keykert USA (Comp) | Webberville, MI | 11/25/2003 | 11/21/2003
53,636 | CIM Harris Systems (Comp) | Skokie, IL | 11/25/2003 | 11/10/2003
53,637 | Melton's Metals (Comp) | Concord, NC | 11/25/2003 | 11/17/2003
53,638 | American Shoe Corp. (ME) | Skowhegan, ME | 11/25/2003 | 11/16/2003
53,639 | Honeywell Sensing and Control (Wkrs) | Shelby, NC | 11/25/2003 | 11/20/2003
53,640 | Wormuth Brothers (Comp) | Athens, NY | 11/25/2003 | 11/11/2003
53,641 | Wentworth Mold, Inc. (Comp) | Pawcatuck, CT | 11/25/2003 | 11/19/2003
53,642 | Hayworth Roll and Panel Co., Inc. (Comp) | High Point, NC | 11/26/2003 | 11/20/2003
53,643 | Stod Win Co., Inc. (Comp) | Danville, VA | 11/26/2003 | 11/17/2003
53,644 | Hussey Copper Ltd. (NJ) | Kenilworth, NJ | 11/26/2003 | 11/20/2003
53,645 | SB Power Tools (AR) | Walnut Ridge, AR | 11/26/2003 | 11/24/2003
53,646 | Washout Co. (The) (Comp) | St. Joseph, MO | 11/26/2003 | 11/19/2003
53,647 | Gates Corporation (Comp) | Denver, CO | 11/26/2003 | 11/24/2003
53,648 | International Business Machines (IBM) (Wkrs) | Tulsa, OK | 11/26/2003 | 11/19/2003
53,649 | Pavallax Power Computer LLC (Wkrs) | Bridgeport, CT | 11/26/2003 | 11/18/2003
53,650 | Stimson Lumber Co. (Comp) | Coeur d'Alene, ID | 11/28/2003 | 11/25/2003
53,651 | Cannon ITT Industries (Comp) | Santa Ana, CA | 11/28/2003 | 11/24/2003
53,652 | Ericsson (Wkrs) | Framingham, MA | 11/28/2003 | 11/20/2003
53,653 | Portland Forge (Wkrs) | Portland, IN | 11/28/2003 | 11/21/2003
53,654 | Fresenius Kabi Clayton LP (Comp) | Clayton, NC | 11/28/2003 | 11/25/2003
53,655 | John Plant Co., Inc. (The) (Comp) | Ramseur, NC | 11/28/2003 | 11/25/2003
53,656 | Halliburton Energy Services (Comp) | Houston, TX | 11/28/2003 | 11/25/2003
53,657 | RMG Foundry (Comp) | Mishawaka, IN | 11/28/2003 | 11/18/2003
53,658 | Dana Corp. (Wkrs) | Oklahoma City, OK | 11/28/2003 | 11/11/2003
53,659 | Bristol Compressors, Inc. (Comp) | Bristol, VA | 11/28/2003 | 11/07/2003
53,660 | J.R. Simplot Co., (IBT) | Caldwell, ID | 11/28/2003 | 11/17/2003
53,661 | Newstech Pa. (Comp) | Northampton, PA | 11/28/2003 | 11/19/2003
53,662 | Newstech NY, Inc. (Comp) | Deferiet, NY | 11/28/2003 | 11/17/2003
53,663 | Renfro Corp. (Comp) | Mt. Airy, NC | 11/28/2003 | 11/20/2003
53,664 | Owens-Illinois Glass Container (Comp) | Hayward, CA | 11/28/2003 | 08/22/2003
53,665 | Brown and Williamson Tobacco Corp. (Comp) | Macon, GA | 11/28/2003 | 11/14/2003
53,666 | Falcon Products (Comp) | Canton, MS | 11/28/2003 | 11/10/2003
53,667 | Toro Irrigation (Comp) | El Paso, TX | 11/28/2003 | 11/14/2003

[FR Doc. 03-31854 Filed 12-24-03; 8:45 am]

BILLING CODE 4510-30-M